DEPARTMENT OF TRANSPORTATION

Federal Aviation Administration

14 CFR Part 39

[Docket No. FAA-2005-23023; Directorate Identifier 2005-CE-49-AD]

RIN 2120-AA64

Airworthiness Directives; Cirrus Design Corporation Model SR20 and SR22 Airplanes

AGENCY: Federal Aviation Administration (FAA), Department of Transportation (DOT).

ACTION: Notice of proposed rulemaking (NPRM).

SUMMARY: The FAA proposes to adopt a new airworthiness directive (AD) for certain Cirrus Design Corporation (CDC) Model SR20 and SR22 airplanes. This proposed AD would require you to inspect the fuel line and wire bundles for any chafing damage; if any chafing damage is found, replace any damaged fuel line and repair any damaged wires or sheathing of the wire harness; and install the forward loop clamp, fuel line shield, aft loop clamp, and anti-chafe tubing. This proposed AD results from reports of fuel line leaks resulting from wire chafing on the fuel lines. We are issuing this proposed AD to detect and correct damage to the fuel line and wire bundles, which could result in fuel leaks. This failure could lead to unsafe fuel vapor within the cockpit and possible fire.

DATES: We must receive comments on this proposed AD by February 7, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Contact Cirrus Design Corporation, 4515 Taylor Circle, Duluth, Minnesota 55811; telephone: (218) 727-2737, or on the Internet at http://www.cirrusdesign.com for the service information identified in this proposed AD.

You may examine the comments on this proposed AD in the AD docket on the Internet at http://dms.dot.gov.

FOR FURTHER INFORMATION CONTACT: Wess Rouse, Aerospace Engineer, ACE-117C, Chicago Aircraft Certification Office, 2300 East Devon Avenue, Room 107, Des Plaines, Illinois 60018; telephone: (847) 294-8113; facsimile: (847) 294-7834.

SUPPLEMENTARY INFORMATION:

Comments Invited

How do I comment on this proposed AD? We invite you to send any written relevant data, views, or arguments regarding this proposal. Send your comments to an address listed under ADDRESSES. Include the docket number, “FAA-2005-23023; Directorate Identifier 2005-CE-49-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of the DOT docket Web site, anyone can find and read the comments received into any of our dockets, including the name of the individual who sent the comment (or signed the comment on behalf of an association, business, labor union, etc.). You may review the DOT's complete Privacy Act Statement in the Federal Register published on April 11, 2000 (65 FR 19477-78) or you may visit http://dms.dot.gov.

Examining the Dockets

Where can I go to view the docket information? You may examine the docket that contains the proposal, any comments received and any final disposition on the Internet at http://dms.dot.gov, or in person at the DOT Docket Offices between 9 a.m. and 5 p.m., Monday through Friday, except Federal holidays. The Docket Office (telephone 1-800-647-5227) is located on the plaza level of the Department of Transportation NASSIF Building at the street address stated in ADDRESSES. Comments will be available in the AD docket shortly after the Docket Management Facility receives them.

Discussion

What events have caused this proposed AD? The FAA has received two reports of fuel line leaks within a compartment in the center console of Model SR22 airplanes. This compartment is drained to the belly of the aircraft. Investigation found that the leaks resulted from wire chafing on the fuel lines.

What is the potential impact if FAA took no action? This condition, if not corrected, could result in unsafe fuel vapor within the cockpit and possible fire.

Relevant Service Information

Is there service information that applies to this subject? We have reviewed Cirrus Design Corporation Service Bulletin SB 2X-28-04 R1, Issued: November 1, 2005, Revised: November 8, 2005.

What are the provisions of this service information? The service information describes procedures for:

• Fuel line chafing inspection; and

• Protective measures to prevent a potential chafing condition.

FAA's Determination and Requirements of the Proposed AD

Why have we determined AD action is necessary and what would this proposed AD require? We are proposing this AD to address an unsafe condition that we determined is likely to exist or develop on other products of this same type design. The proposed AD would require you to inspect the fuel line and wire bundles for any chafing damage; if any chafing damage is found, replace any damaged fuel line and repair any damaged wires or sheathing of the wire harness; and install the forward loop clamp, fuel line shield, aft loop clamp, and anti-chafe tubing. The proposed AD would require you to use the service information described previously to perform these actions.

Costs of Compliance

How many airplanes would this proposed AD impact? We estimate that this proposed AD affects 2,135 airplanes in the U.S. registry.

What would be the cost impact of this proposed AD on owners/operators of the affected airplanes? The manufacturer will cover parts and labor costs if the work is done within the standard airplane warranty period and the work is done at any of the manufacturer's authorized service centers.

Authority for This Rulemaking

What authority does FAA have for issuing this rulemaking action? Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

Would this proposed AD impact various entities? We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Cirrus Design Corporation: Docket No. FAA-2005-23023; Directorate Identifier 2005-CE-49-AD.

When Is the Last Date I Can Submit Comments on This Proposed AD?

(a) The Federal Aviation Administration (FAA) must receive comments on this airworthiness directive (AD) action by February 7, 2006.

What Other ADs Are Affected by This Action?

(b) None.

What Airplanes Are Affected by This AD?

(c) This AD affects the following airplane models and serial numbers that are certificated in any category:

Model | Serial Nos.
SR20 | 1005 through 1581.
SR22 | 0002 through 1643 and 1645 through 1662.

What Is the Unsafe Condition Presented in This AD?

(d) This AD results from reports of fuel line leaks resulting from wire chafing on the fuel lines. The actions specified in this AD are intended to detect and correct damage to the fuel line and wire bundles, which could result in fuel leaks. This failure could lead to unsafe fuel vapor within the cockpit and possible fire.

What Must I Do To Address This Problem?

(e) To address this problem, you must do the following:

Actions | Compliance | Procedures
(1) Inspect the fuel line and wire harness for any chafing damage | Within the next 50 hours time-in-service (TIS) after the effective date of this AD | Follow Cirrus Design Corporation Service Bulletin SB 2X-28-04 R1, Issued: November 1, 2005, Revised: November 8, 2005.
(2) If any chafing damage is found as a result of the inspection required by paragraph (e)(1) of this AD: (i) Replace any damaged fuel line; and (ii) Repair any damaged wires or sheathing of the wire harness. | Before further flight after the inspection required by paragraph (e)(1) of this AD | Follow Cirrus Design Corporation Service Bulletin SB 2X-28-04 R1, Issued: November 1, 2005, Revised: November 8, 2005.
(3) Install the following: (i) Forward loop clamp; (ii) Fuel line shield; (iii) Aft loop clamp; and (iv) Anti-chafe tubing. | Within the next 50 hours time-in-service (TIS) after the effective date of this AD | Follow Cirrus Design Corporation Service Bulletin SB 2X-28-04 R1, Issued: November 1, 2005, Revised: November 8, 2005.

May I Request an Alternative Method of Compliance?

(f) The Manager, Chicago Aircraft Certification Office (ACO), FAA, has the authority to approve alternative methods of compliance for this AD, if requested using the procedures found in 14 CFR 39.19.

(g) For information on any already approved alternative methods of compliance or for information pertaining to this AD, contact Wess Rouse, Aerospace Engineer, ACE-117C, Chicago ACO, 2300 East Devon Avenue, Room 107, Des Plaines, Illinois 60018; telephone: (847) 294-8113; facsimile: (847) 294-7834.

May I Get Copies of the Documents Referenced in This AD?

(h) To get copies of the documents referenced in this AD, contact Cirrus Design Corporation, 4515 Taylor Circle, Duluth, Minnesota 55811; telephone: (218) 727-2737 or on the Internet at www.cirrusdesign.com. To view the AD docket, go to the Docket Management Facility; U.S. Department of Transportation, 400 Seventh Street, SW., Nassif Building, Room PL-401, Washington, DC, or on the Internet at http://dms.dot.gov.

The docket number is Docket No. FAA-2005-23023; Directorate Identifier 2005-CE-49-AD.

Issued in Kansas City, Missouri, on December 2, 2005.
John R. Colomy,
Acting Manager, Small Airplane Directorate, Aircraft Certification Service.

[FR Doc. 05-23772 Filed 12-7-05; 8:45 am]

BILLING CODE 4910-13-P